DEPARTMENT OF AGRICULTURE

Agricultural Marketing Service

7 CFR Part 1051

[Doc. No. AO-15-0071; AMS-DA-14-0095]

Milk in California; Reconvened Hearing on a Proposal To Establish a Federal Milk Marketing Order

AGENCY: Agricultural Marketing Service, USDA.

ACTION: Notice to reconvene public hearing on proposed rulemaking.

SUMMARY: In the event of a lapse of appropriations necessitating an adjournment of the public hearing on September 30, 2015, this Notice serves to establish a date to reconvene a public hearing that began on September 22, 2015, in Clovis, CA, to consider and take evidence on a proposal to establish a Federal milk marketing order to regulate the handling of milk in California.

DATES: The hearing will reconvene at 9:00 a.m. two business days after the date Federal government operations resume. If the date is a Friday, the hearing will reconvene the following Monday. If the reconvening date is a Federal Holiday, the hearing will reconvene the next business day.

ADDRESSES: The hearing will reconvene at the Clovis Veterans Memorial District Building, 808 Fourth Street, Clovis, California 93612; telephone (559) 299-0471. If still ongoing, the hearing will be held on October 22 and 23, 2015, at the Piccadilly Inn Airport Hotel, 5115 E. McKinley Avenue, Fresno, California 93727; telephone (559) 375-7760.

FOR FURTHER INFORMATION CONTACT: William Francis, Director, Order Formulation and Enforcement Division, USDA/AMS/Dairy Program, Stop 0231—Room 2969-S, 1400 Independence Avenue SW., Washington, DC 20250-0231; (202) 720-6274; email address: william.francis@ams.usda.gov.

Persons requiring a sign language interpreter or other special accommodations should contact Diane Hirsch, AMS Dairy Program, at (425) 487-5601, email: dhirsch@fmmaseattle.com, before the hearing begins.

SUPPLEMENTARY INFORMATION: Prior documents in this proceeding:

Notice of Hearing: Issued August 4, 2015; published August 5, 2015, FR 80 47210.

In the event of a lapse of appropriations necessitating an adjournment of the public hearing on September 30, 2015, notice is hereby given that the hearing to consider the promulgation of a Federal Milk Marketing Order for the state of California will reconvene in session at the Clovis Veterans Memorial District Building, 808 Fourth Street, Clovis, California 93612; telephone (559) 299-0471. If still ongoing, the hearing will be held on October 22 and 23, 2015, at the Piccadilly Inn Airport Hotel, 5115 E. McKinley Avenue, Fresno, California 93727; telephone (559) 375-7760. At the reconvened hearing, testimony will continue to be received regarding Proposals 1-4 as included in the Notice of Hearing published August 5, 2015, 80 FR 47210.

List of Subjects in 7 CFR 1051

Milk marketing orders.

Authority: 7 U.S.C. 601-674, and 7253.

Dated: September 25, 2015.
Rex A. Barnes,
Associate Administrator.

[FR Doc. 2015-24799 Filed 9-29-15; 8:45 am]

BILLING CODE 3410-02-P